DEPARTMENT OF TRANSPORTATION

Federal Aviation Administration

Aviation Rulemaking Advisory Committee Transport Airplanes and Engine Issues—New Tasks

AGENCY: Federal Aviation Administration (FAA), DOT.

ACTION: Notice of new task assignment(s) for the Aviation Rulemaking Advisory Committee (ARAC).

SUMMARY: Notice is given of new tasks assigned to and accepted by the Aviation Rulemaking Advisory Committee (ARAC). This notice informs the public of the activities of ARAC.

FOR FURTHER INFORMATION CONTACT: Dorenda Baker, 601 Lind Ave., Renton, Washington 98055-4056, 425-227-2109, dorenda.baker@faa.gov.

SUPPLEMENTARY INFORMATION:

Background

The FAA has established an Aviation Rulemaking Advisory Committee to provide advice and recommendations to the FAA Administrator, through the Associate Administrator for Regulation and Certification, on the full range of the FAA's rulemaking activities with respect to aviation-related issues. This includes obtaining advice and recommendations on the FAA's commitment to harmonize title 14 of the Code of Federal Regulations (14 CFR) with its partners in Europe and Canada.

The Task

This notice is to inform the public that the FAA has asked ARAC to provide advice and recommendation on the following harmonization task:

Task: Review 14 CFR 25.365(d), in particular the factors applied to the maximum relief value setting, which is used to set a limit structural design loan. Review FAA and Joint Aviation Authority (JAA) advisory material and paragraph 8 of Advisory Circular 25-20. In light of this review, develop a report recommending changes to harmonize this section and the corresponding JAR paragraph, recommending new harmonized standards, and develop related or revised advisory material as necessary.

Schedule: The report and advisory material shall be submitted to the FAA within 18 months after the date of this notice.

ARAC Acceptance of Tasks

ARAC has accepted the tasks and has chosen to assign the tasks to the General Structures Harmonization Working Group of the ARAC Transport Airplanes and Engine Issues group. The working group will serve as staff to ARAC to assist in the analysis of the assigned tasks. Working group recommendations must be reviewed and approved by ARAC. If ARAC accepts the working group's recommendations, it forwards them to the FAA as ARAC recommendations.

Working Group Activity

The General Structures Harmonization Working Group is expected to comply with the procedures adopted by ARAC. As part of the procedures, the working group is expected to:

1. Recommend a work plan for completion of the task, including the rationale supporting such a plan, for consideration at the meeting of the ARAC Transport Airplane and Engines issues held following publication of this notice.

2. Give a detailed conceptual presentation of the proposed recommendations, prior to proceeding with the work stated in item 3 below.

3. Draft appropriate documents with supporting economic and other required analyses, and/or any other related guidance material or collateral documents the working group determines to be appropriate; or, if new or revised requirements or compliance methods are not recommended, a draft report stating the rationale for not making such recommendations.

4. Provide a status report at each meeting of the ARAC held to consider Transport Airplane and Engine issues.

The Secretary of Transportation has determined that the formation and use of the ARAC are necessary and in the public interest in connection with the performance of duties imposed on the FAA by law.

Meetings of the ARAC will be open to the public. Meetings of the General Structures Harmonization Working Group will not be open to the public, except to the extent that individuals with an interest and expertise are selected to participate. No public announcement of working group meetings will be made.

Issued in Washington, DC, on October 18, 2000.
Anthony F. Fazio,
Executive Director, Aviation Rulemaking Advisory Committee.

[FR Doc. 00-27332 Filed 10-24-00; 8:45 am]

BILLING CODE 4910-13-M